DEPARTMENT OF HEALTH AND HUMAN SERVICES

Administration for Children and Families

Expedited OMB Review and Public Comment; Proposed Information Collection Activity; Release of Unaccompanied Alien Children From ORR Custody

AGENCY: Office of Refugee Resettlement; Administration for Children and Families; HHS.

ACTION: Request for public comment.

SUMMARY: The Office of Refugee Resettlement (ORR), Administration for Children and Families (ACF), U.S. Department of Health and Human Services (HHS), is requesting expedited review of an information collection request from the Office of Management and Budget (OMB) and inviting public comments on the proposed collection. The request consists of several forms that allow the Unaccompanied Alien Children (UAC) Program to process release of UAC from ORR custody and provide services after release.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: ACF is requesting that OMB grant a 180 day approval for this request under procedures for expedited processing. Any edits resulting from public comment will be incorporated into the submission under normal procedures.

The components of this information request include:

1. Discharge Notification (Form R-2): This instrument is used by care provider facilities to notify stakeholders of the transfer of a UAC to another care provider facility or the release of a UAC from ORR custody.

2. Notice to Immigration and Customs Enforcement (ICE) Chief Counsel—Release of Unaccompanied Alien Child to Sponsor and Request to Change Address (Form R-3): This instrument is used by care provider facilities to notify ICE Chief Counsel of the release of a UAC and request a change of address.

3. Release Request (Form R-4): This instrument is used by care provider facilities, ORR contractor staff, and ORR Federal staff to process recommendations and decisions for release of a UAC from ORR custody.

4. Safety and Well-Being Follow-Up Call Report (Form R-6): This instrument is used by care provider facilities to document the outcome of calls made to UAC and their sponsors after release to ensure the child is safe and refer the sponsor to additional resources as needed.

Respondents: ORR grantee and contractor staff; and released children and sponsors.

Annual Burden Estimates
Instrument | Annual total number of respondents | Annual total number of responses per respondent | Average burden minutes per response | Annual total burden minutes
Discharge Notification (Form R-2) | 206 | 416 | 7 | 599,872
Notice to ICE Chief Counsel—Release of Unaccompanied Alien Child to Sponsor and Request to Change Address (Form R-3) | 206 | 377 | 3 | 232,986
Release Request (Form R-4) | 206 | 356 | 45 | 3,300,120
Safety and Well-Being Follow Up Call Report (R-6) | 206 | 354 | 30 | 2,187,720
Estimated Annual Burden Total: |  |  |  | 6,320,698

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Authority: 6 U.S.C. 279; 8 U.S.C. 1232; Flores v. Reno Settlement Agreement, No. CV85-4544-RJK (C.D. Cal. 1996).

John M. Sweet Jr.,
ACF/OPRE Certifying Officer.

[FR Doc. 2020-16053 Filed 7-23-20; 8:45 am]

BILLING CODE 4184-45-P